DEPARTMENT OF ENERGY

Federal Energy Regulatory Commission

[Docket No. ER01-2413-002, et al.]

American Electric Power Service Corporation, et al.; Electric Rate and Corporate Regulation Filings

March 20, 2002.

Take notice that the following filings have been made with the Commission. Any comments should be submitted in accordance with Standard Paragraph E at the end of this notice.

1. American Electric Power Service Corporation

[Docket No. ER01-2413-002]

Take notice that on March 14, 2002, the American Electric Power Service Corporation (AEPSC) tendered for filing an Amended Interconnection and Operation Agreement between Indiana Michigan Power Company and Sugar Creek Energy, L.L.C. The agreement is pursuant to the AEP Companies' Open Access Transmission Service Tariff (OATT) that has been designated as the Operating Companies of the American Electric Power System FERC Electric Tariff Revised Volume No. 6, effective June 15, 2000.

AEP requests an effective date of May 12, 2002.

A copy of the filing was served upon the Indiana Utility Regulatory Commission and Michigan Public Service Commission.

Comment Date: April 4, 2002.

2. International Transmission Company

[Docket No. ER02-974-001]

Take notice that on March 14, 2002, International Transmission Company (International Transmission) tendered for filing an amendment to the filing of several service agreements for the provision of non-discriminatory transmission service executed under the joint access transmission tariff between International Transmission and Michigan Electric Transmission Company. The amendment revises the February 6 Filing to include the required Order No. 614 designations for the Service Agreements.

Comment Date: April 4, 2002.

3. Duke Energy Corporation

[Docket No. ER02-994-001]

Take notice that on March 15, 2002, Duke Energy Corporation submitted an amendment to its filing in the above-captioned docket. The March 15, 2002 amended filing supercedes the original February 8, 2002 filing. All interventions, protests and comments regarding both filings should be filed by the date indicated below.

Comment Date: April 5, 2002.

4. Keyspan-Ravenswood, Inc.

[Docket No. ER02-1085-001]

Take notice that on March 7, 2002, KeySpan-Ravenswood, Inc. (Ravenswood) filed an amendment to its February 25, 2002 informational letter filed with the Commission, pursuant to section 35.15” of the Commission's rules. The amendment withdraws Ravenswood's notification of cancellation of the Transition Capacity Agreement between Ravenswood and The Consolidated Edison Co of New York, Inc. (Con Edison) accepted in Docket No. ER99-2376-000 and designated by the Commission as Ravenswood's Rate Schedule FERC No. 1 because the contract has not yet terminated. However, Ravenswood's notification of termination contained in the February 25 filing regarding the Transition Energy Agreement between Ravenswood and Con Edison accepted in Docket No. ER99-3183-000 and designated by the Commission as Ravenswood's Rate Schedule FERC No. 2 remains in effect.

Comment Date: April 1, 2002.

5. Illinois Power Company

[Docket No. ER02-1328-000]

Take notice that on March 18, 2002, Illinois Power Company (Illinois Power), 500 South 27th Street, Decatur, Illinois 65251-2200, filed with the Federal Energy Regulatory Commission (Commission) five Emergency Energy Service Agreements entered into with Exelon Generation Company, LLC; Allegheny Energy Supply Company, LLC; Southern Illinois Power Cooperative; Central Illinois Light Company; and Alliant Energy Corporate Services, Inc. pursuant to Illinois Power's Emergency Energy Tariff.

Illinois Power requests an effective date of February 1, 2002, for all five Agreements and accordingly seeks a waiver of the Commission's notice requirement.

Illinois Power states that a copy of this filing has been sent to all five customers.

Comment Date: April 8, 2002.

6. Illinois Power Company

[Docket No. ER02-1329-000]

Take notice that on March 18, 2002, Illinois Power Company (Illinois Power), 500 South 27th Street, Decatur, Illinois 65251-2200, filed with the Federal Energy Regulatory Commission (Commission) a Network Integration Transmission Service Agreement entered into with Tri-County Electric Cooperative, Inc. and a Network Integration Transmission Service Agreement entered into with Clinton County Electric Cooperative, Inc., pursuant to Illinois Power's Open Access Transmission Tariff.

Illinois Power requests an effective date of March 1, 2002, for both Agreement sand accordingly seeks a waiver of the Commission's notice requirement.

Illinois Power states that a copy of this filing has been sent to the customers.

Comment Date: April 8, 2002.

7. Pacific Gas and Electric Company

[Docket No. ER02-1330-000]

Take notice that on March 18, 2002, Pacific Gas and Electric Company (PG&E) tendered for filing several Agreements, including an executed Generator Interconnection Agreement (GIA) to replace the unexecuted placeholder GIA that is part of the Generator Special Facilities Agreement (GSFA), between PG&E and Los Medanos Energy Center LLC (LMEC) providing for Special Facilities and the parallel operation of LMEC's generating facility and the PG&E-owned electric system that is on file with the Federal Energy Regulatory Commission (Commission) as Service Agreement No. 8 to PG&E Electric Tariff, Sixth Revised Volume No. 5.

Copies of this filing have been served upon LMEC, Calpine Corporation, the California Independent System Operator Corporation, and the California Public Utilities Commission.

Comment Date: April 8, 2002.

8. Pacific Gas and Electric Company

[Docket No. ER02-1332-000]

Take notice that on March 18, 2002, Pacific Gas and Electric Company (PG&E) tendered for filing three executed Generator Interconnection Agreements (GIAs) to replace the unexecuted placeholder GIAs that are part of the Generator Special Facilities Agreements (GSFAs) between PG&E and each of the following generators, Fresno Cogeneration Partners, LP (Fresno), NEO Corporation, NEO California Power LLC, Chowchilla (NEO Chowchilla) and NEO Corporation, NEO California Power LLC, Red Bluff (NEO Red Bluff). These Agreements provide for the parallel operation of the generating facilities of Fresno, NEO Chowchilla and NEO Red Bluff and the PG&E-owned electric system and are on file with the Commission as Service Agreement Nos. 11, 13 and 14 to PG&E Electric Tariff, Fourth Revised Volume No. 5. The GIAs provide no rates for services, and there are no associated sales or revenue.

Copies of this filing have been served upon Fresno, NEO Chowchilla, NEO Red Bluff, the California Independent System Operator Corporation and the California Public Utilities Commission.

Comment Date: April 8, 2002.

9. PJM Interconnection, L.L.C.

[Docket No. ER02-1333-000]

Take notice that on March 18, 2002, PJM Interconnection, L.L.C. (PJM) tendered for filing proposed changes to the PJM Open Access Transmission Tariff. PJM states that the proposed changes add new, standardized terms and conditions for interconnection of generation facilities with the PJM Transmission System and related forms of service agreements, and make conforming changes to various provisions of the existing Part IV of the PJM Tariff.

PJM further states that copies of this filing have been served on all parties to Docket No. RT01-2-000, as well as on all PJM Members and the state electric regulatory commissions in the PJM region.

PJM requests an effective date of June 1, 2002 for the proposed tariff changes.

Comment Date: April 8, 2002.

Standard Paragraph:

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-7198 Filed 3-25-02; 8:45 am]

BILLING CODE 6717-01-P